SECURITIES AND EXCHANGE COMMISSION

[File No. 500-1]

In the Matter of Asia Cork, Inc., Biocurex, Inc., Carthew Bay Technologies Inc., Current Technology Corp., Gamecorp Ltd. (n/k/a DealNet Capital Corp.), Globetech Ventures Corp., and Pepper Rock Resources Corp.; Order of Suspension of Trading

September 4, 2014.

It appears to the Securities and Exchange Commission that there is a lack of current and accurate information concerning the securities of Asia Cork, Inc. because it has not filed any periodic reports since the period ended March 31, 2011.

It appears to the Securities and Exchange Commission that there is a lack of current and accurate information concerning the securities of Biocurex, Inc. because it has not filed any periodic reports since the period ended September 30, 2012.

It appears to the Securities and Exchange Commission that there is a lack of current and accurate information concerning the securities of Carthew Bay Technologies Inc. because it has not filed any periodic reports since the period ended December 31, 2010.

It appears to the Securities and Exchange Commission that there is a lack of current and accurate information concerning the securities of Current Technology Corp. because it has not filed any periodic reports since the period ended September 30, 2009.

It appears to the Securities and Exchange Commission that there is a lack of current and accurate information concerning the securities of Gamecorp Ltd. (n/k/a DealNet Capital Corp.) because it has not filed any periodic reports since the period ended September 30, 2009.

It appears to the Securities and Exchange Commission that there is a lack of current and accurate information concerning the securities of Globetech Ventures Corp. because it has not filed any periodic reports since the period ended September 30, 2010.

It appears to the Securities and Exchange Commission that there is a lack of current and accurate information concerning the securities of Pepper Rock Resources Corp. because it has not filed any periodic reports since the period ended April 30, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 4, 2014, through 11:59 p.m. EDT on September 17, 2014.

By the Commission.
Jill M. Peterson,
Assistant Secretary.

[FR Doc. 2014-21392 Filed 9-4-14; 4:15 pm]

BILLING CODE 8011-01-P